DEPARTMENT OF THE INTERIOR

Office of the Secretary

Fish and Wildlife Service; Establishment of the Sporting Conservation Council

SUMMARY: This notice is published in accordance with section 9a(2) of the Federal Advisory Committee Act, 5 U.S.C. App (1988). Following consultation with the General Services Administration, the Secretary of the Interior hereby establishes the Sporting Conservation Council. The Council will function solely as an advisory body and in compliance with the provisions of the Federal Advisory Committee Act (Act).

FOR FURTHER INFORMATION CONTACT: Melissa Simpson at 202-208-6224.

SUPLEMENTARY INFORMATION: The Council will provide advice and guidance to the Federal Government through the Department of the Interior on how to increase public awareness of the importance of wildlife resources and the social and economic benefits of recreational hunting. The purpose of the Council is to advise the Secretary of the Interior about wildlife conservation endeavors that benefit recreational hunting and wildlife resources and that encourage partnerships among the public, the sportsman conservation community and Federal and State government.

Council membership will include representatives from game bird hunting organizations, recreational shooting organizations, wildlife conservation organizations, big game hunting organizations, and the hunting community.

The Council will function solely as an advisory body, and in compliance with the provisions of the Federal Advisory Committee Act. The Charter will be filed under the Act, 15 days from the date of publication of this notice.

Certification

I hereby certify that the establishment of the Sporting Conservation Council is necessary and in the public interest in connection with the performance of duties by the Department of the Interior mandated pursuant to 43 U.S.C. 1457, and provisions of the Fish and Wildlife Act of 1956 (16 U.S.C. 742A-742j).

Dated: February 17, 2006.
Gale A. Norton,
Secretary of the Interior.

[FR Doc. E6-3137 Filed 3-3-06; 8:45 am]

BILLING CODE 4310-55-P